DEPARTMENT OF THE INTERIOR

National Park Service

[NPS-WASO-NRNHL-17590; PPWOCRADI0, PCU00RP14.R50000]

National Register of Historic Places; Notification of Pending Nominations and Related Actions

Nominations for the following properties being considered for listing or related actions in the National Register were received by the National Park Service before January 31, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington, DC 20005; or by fax, 202-371-6447. Written or faxed comments should be submitted by March 20, 2015. Before including your address, phone number, email address, or other personal identifying information in your comment, you should be aware that your entire comment—including your personal identifying information—may be made publicly available at any time. While you can ask us in your comment to withhold your personal identifying information from public review, we cannot guarantee that we will be able to do so.

Dated: February 9, 2015.
J. Paul Loether,
Chief, National Register of Historic Places/National Historic Landmarks Program.

ALABAMA

Madison County

Old Town Historic District (Boundary Increase), 305, 309, 310 Dallas St. & 115, 118, 120 Walker Ave., Huntsville, 15000069

ALASKA

Juneau Borough-Census Area

Rudy—Kodzoff House, 2865 Mendenhall Loop Rd., C-0, Juneau, 15000070

Kenai Peninsula Borough-Census Area

Magnetic Island Site, Address Restricted, Pt. Alsworth, 15000071

DISTRICT OF COLUMBIA

District of Columbia

Editors Building, The, 1729 H St., NW., Washington, 15000072

Hill Building, 839 17th or 1636 I Sts., NW., Washington, 15000073

FLORIDA

Madison County

Davis, W.T., Building, 200 SE. Range Ave., Madison, 15000074

Putnam County

Cummings House, 298 Cty. Rd. 10, Palatka, 15000075

INDIANA

Allen County

Hagerman, William C. and Clara, House, 2105 N. Anthony Blvd., Fort Wayne, 15000076

Hamilton County

Archeological Site 12H1052, Address Restricted, Noblesville, 15000077

Marshall County

Gaskill—Erwin Farm, 2595 14-B Rd., Bourbon, 15000078

Pulaski County

Pulaski County Home, 700 W. 60 S., Winamac, 15000079

IOWA

Audubon County

Audubon County Home Historic District, 1891 215th St., Audubon, 15000080

KENTUCKY

Campbell County

Marianne Theater, 609 Fairfield Ave., Bellevue, 15000081

Jefferson County

Louisville Gas and Electric Company Service Station Complex, 1228 S. 7th St., Louisville, 15000082

Lynn Acres Garden Apartments, 100 E. Southland Blvd., Louisville, 15000083

Kenton County

Hellman Lumber and Manufacturing Company, 321 W. 12th St., Covington, 15000084

Pike County

Elkhorn City Elementary and High School, 551 Russell St., Elkhorn City, 15000085

MAINE

Androscoggin County

Record, Judson, House, 22 Church St., Livermore Falls, 15000086

Knox County

Whitney Farm, 215 Whitney Rd., Appleton, 15000087

NEBRASKA

Dodge County

North Broad Street Residential Historic District, Along Broad St., Fremont, 15000088

Pawnee County

Rinne Farm, 71075 617 Ave., Pawnee City, 15000089

Richardson County

Way Side Stock Farm, 64480 718 Rd., Stella, 15000090

NEW JERSEY

Burlington County

Springside Public School, 1508 Mount Holly Rd., Burlington Township, 15000091

Camden County

Lawnside School, 23 N. Warwick Rd., Lawnside Borough, 15000092

Hunterdon County

Whitehouse—Mechanicsville Historic District, Old NJ 28, Mill, Lamington & School Rds., Readington Township, 15000093

NEW YORK

Otsego County

St. Mary's Episcopal Church Complex, 7690 NY 80, Springfield Center, 15000094

OKLAHOMA

Oklahoma County

Oklahoma City National Memorial, Bounded by NW. 6th & NW. 4th Sts., N. Robinson & N. Harvey Aves., Oklahoma City, 01000278

WEST VIRGINIA

Ohio County

Riverside Iron Works Office Building, 1507-1509 Main St., Wheeling, 15000096

In the interest of preservation, a three day comment period has been requested for the following resource:

OHIO

Hamilton County

Windsor Public School, 937 Windsor St., Cincinnati, 15000095

[FR Doc. 2015-05022 Filed 3-4-15; 8:45 am]

BILLING CODE 4312-51-P